DEPARTMENT OF THE TREASURY

Internal Revenue Service

26 CFR Part 53

[REG-142338-07]

RIN 1545-BI33

Taxes on Taxable Distributions From Donor Advised Funds Under Section 4966

AGENCY: Internal Revenue Service (IRS), Treasury

ACTION: Notice of proposed rulemaking; extension of comment period.

SUMMARY: This document extends the period to submit comments or to request a public hearing for a notice of proposed rulemaking (REG-142338-07) that was published in the Federal Register on Tuesday, November 14, 2023. The proposed regulations relate to excise taxes on taxable distributions made by a sponsoring organization from a donor advised fund, and on the agreement of certain fund managers to the making of such distributions.

DATES: The period to submit written or electronic comments for the notice of proposed rulemaking published on November 14, 2023 (88 FR 77922) or to request a public hearing is extended from January 16, 2024, to February 15, 2024.

ADDRESSES: Commenters are strongly encouraged to submit public comments electronically. Submit electronic submissions via the Federal eRulemaking Portal at www.regulations.gov (indicate IRS and REG-142338-07) by following the online instructions for submitting comments. Once submitted to the Federal eRulemaking Portal, comments cannot be edited or withdrawn. The Department of the Treasury (Treasury Department) and the IRS will publish any comments submitted electronically or on paper to the public docket. Send paper submissions to: CC:PA:01:PR (REG-142338-07), Room 5203, Internal Revenue Service, P.O. Box 7604, Ben Franklin Station, Washington, DC 20044.

FOR FURTHER INFORMATION CONTACT: Concerning the proposed regulations Christopher A. Hyde of the Office of Associate Chief Counsel (Employee Benefits, Exempt Organizations, and Employment Taxes) at (202) 317-5800 (not a toll-free number). Concerning submissions of comments and requests for a public hearing, Vivian Hayes at publichearings@irs.gov (preferred) or at (202) 317-6901 (not a toll-free number).

SUPPLEMENTARY INFORMATION: A notice of proposed rulemaking and request for comments that appeared in the Federal Register on Tuesday, November 14, 2023 (88 FR 77922) announced that written or electronic comments must be received by January 16, 2024. In response to requests from multiple commenters, the due date to receive comments or request a public hearing has been extended to Thursday, February 15, 2024.

Oluwafunmilayo A. Taylor,
Section Chief, Publications and Regulations, Associate Chief Counsel (Procedure & Administration).

[FR Doc. 2024-00260 Filed 1-8-24; 8:45 am]

BILLING CODE 4830-01-P